NUCLEAR REGULATORY COMMISSION

[NRC-2009-0189]

Interim Staff Guidance on Assessing the Consequences of an Accidental Release of Radioactive Materials From Liquid Waste Tanks

AGENCY: Nuclear Regulatory Commission (NRC).

ACTION: Solicitation of public comment.

SUMMARY: The NRC is soliciting public comment on its Proposed Interim Staff Guidance (ISG) DC/COL-ISG-013 (Agencywide Documents Access and Management System (ADAMS) Accession No. ML090830488). The purpose of this ISG is to modify and provide Combined License (COL) and Design Certification (DC) applicants additional clarity and guidance for the application of Standard Review Plan (SRP) Sections 11.2 and 2.4.13 on the characterization of hydro geological properties of a site associated with the effects of accidental releases of radioactive liquid on existing or likely future uses of ground and surface water resources in meeting the requirements of Title 10 of the Code of Federal Regulations, Part 100 (10 CFR 100.10 or 100.20) and Appendix B to 10 CFR Part 20 on effluent concentration limits. This ISG would revise the staff guidance previously issued in March 2007 in the SRP NUREG-0080, “Standard Review Plan for the Review of Safety Analysis Reports for Nuclear Power Plants,” Sections 11.2 and 2.4.13. These two SRP sections are not internally consistent in identifying acceptable criteria for assessing the consequences of accidental releases of radioactive materials, or in providing guidance to the staff and applicants to establish conditions for such releases and define acceptable assumptions to describe exposure scenarios and pathways to members of the public. The NRC staff issues DC/COL-ISGs to facilitate timely implementation of current staff guidance and to facilitate activities associated with review of applications for DCs and COLs by the Office of New Reactors. The NRC staff will also incorporate the approved DC/COL-ISG-013 into the next revision of the SRP and related guidance documents.

DATES: Comments must be filed no later than 60 days from the date of publication of this notice in the Federal Register. Comments received after this date will be considered, if it is practical to do so, but the Commission is able to ensure consideration only for comments received on or before this date.

ADDRESSES: Comments may be submitted to: Chief, Rulemaking and Directives Branch, Office of Administration, Mail Stop: TWB-05-B01M, U.S. Nuclear Regulatory Commission, Washington, DC 20555-0001, and should cite the publication date and page number of the Federal Register notice.

The NRC ADAMS provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at PDR.Resource@nrc.gov.

FOR FURTHER INFORMATION CONTACT: Mr. Timothy J. Frye, Chief, Health Physics Branch, Division of Construction Inspection and Operational Programs, Office of the New Reactors, U.S. Nuclear Regulatory Commission, Washington, DC 20555-0001; telephone 301-415-3900 or e-mail at timothy.frye@nrc.gov.

SUPPLEMENTARY INFORMATION: The agency posts its issued staff guidance in the agency's external Web page (http://www.nrc.gov/reading-rm/doc-collections/isg/).

The NRC staff is issuing this notice to solicit public comments on proposed DC/COL-ISG-013. After the NRC staff considers any public comments, it will make a determination regarding proposed DC/COL-ISG-013.

Dated at Rockville, Maryland, this 24th day of April 2009.
For the Nuclear Regulatory Commission.
William F. Burton,
Branch Chief, Rulemaking and Guidance Development Branch, Division of New Reactor Licensing, Office of New Reactors.

[FR Doc. E9-10137 Filed 5-1-09; 8:45 am]

BILLING CODE 7590-01-P